DEPARTMENT OF THE INTERIOR

Fish and Wildlife Service

Wind Turbine Guidelines Advisory Committee; Announcement of Public Meeting

AGENCY: Fish and Wildlife Service, Interior.

ACTION: Notice of public meeting.

SUMMARY: We, the U.S. Fish and Wildlife Service (Service), will host the second meeting of the Wind Turbine Guidelines Advisory Committee (Committee), on April 23-24, 2008. The meeting is open to the public. The agenda will include the review and approval of Committee groundrules; reports from the Subcommittees on: Existing Guidelines, Guiding Principles, Legal, Landscape Habitat (Mapping), and Other Models/Uncertainty; and briefings from Service regional offices on wind/wildlife issues.

DATES: The meeting will take place on April 23-24, 2008. On April 23, the meeting will be held from 8 a.m. to 5:30 p.m. On April 24, the meeting will be held from 8 a.m. to 3:15 p.m. Following the adjourning of the Committee on April 24th, an administrative training will be held for Committee members only.

ADDRESSES: Holiday Inn Arlington, 4610 N. Fairfax Drive, Arlington, VA 22203. For more information, see “Meeting Location Information” under SUPPLEMENTARY INFORMATION.

FOR FURTHER INFORMATION CONTACT: Rachel London, Division of Habitat and Resource Conservation, U.S. Fish and Wildlife Service, Department of the Interior, (703) 358-2161.

SUPPLEMENTARY INFORMATION:

Background

On March 13, 2007, the Department of the Interior (Interior) published a notice of establishment of the Committee and call for nominations in the Federal Register (72 FR 11373). The Committee's purpose is to provide advice and recommendations to the Secretary of the Interior (Secretary) on developing effective measures to avoid or minimize impacts to wildlife and their habitats related to land-based wind energy facilities. The Committee is expected to exist for 2 years. Its continuation is subject to biennial renewal. The Committee will meet approximately four times per year. All Committee members serve without compensation. In accordance with the Federal Advisory Committee Act (5 U.S.C. App.), a copy of the Committee's charter has been filed with the Committee Management Secretariat, General Services Administration; Committee on Environment and Public Works, U.S. Senate; Committee on Natural Resources, U.S. House of Representatives; and the Library of Congress.

The Secretary appointed 22 individuals to the Committee on October 24, 2007, representing the varied interests associated with wind energy development and its potential impacts to wildlife species and their habitats. The USFWS hosted a technical workshop on February 26-27, 2008, and held the first Committee meeting on February 28, 2008. The workshop and first meeting were open to the public. The public will have an opportunity to comment at all Committee meetings.

Meeting Location Information

Please note that the Holiday Inn is accessible to wheelchair users. If you require additional accommodations, please notify us by April 16, 2008.

If you plan on attending the meeting, please register at http://www.fws.gov/habitatconservation/windpower/wind_turbine_advisory_committee.html by April 16, 2008. While this meeting is open to the public, seating is limited due to room capacity. We will give preference to registrants based on date and time of registration. There will be standing room available if seats are filled.

Dated: April 2, 2008.
Dave Stout,
Wind Turbine Guidelines Advisory Committee Designated Federal Officer.

[FR Doc. E8-7170 Filed 4-4-08; 8:45 am]

BILLING CODE 4310-55-P